DEPARTMENT OF ENERGY

Southwestern Power Administration

Integrated System Power Rates

AGENCY: Southwestern Power Administration, DOE.

ACTION: Notice of public review and comment.

SUMMARY: The Administrator, Southwestern Power Administration (Southwestern), has prepared Current and Revised 2005 Power Repayment Studies which show the need for an increase in annual revenues to meet cost recovery criteria. Such increased revenues are needed primarily to cover increased investments and replacements in hydroelectric generating and high-voltage transmission facilities and increased operation and maintenance expenses. The Administrator has developed proposed Integrated System rates, which are supported by a rate design study, to recover the required revenues. Beginning January 1, 2006, and thereafter, the proposed rates would increase annual system revenues approximately 7.1 percent from $124,552,200 to $133,342,029.

DATES: The consultation and comment period will begin on the date of publication of this Federal Register notice and will end November 14, 2005.

1. Public Information Forum—August 30, 2005, 9 a.m., Tulsa, OK.

2. Public Comment Forum—September 29, 2005, 9 a.m., Tulsa, OK.

ADDRESSES: The forums will be held in Southwestern's offices, Room 1460, Williams Center Tower I, One West Third Street, Tulsa, Oklahoma 74103.

FOR FURTHER INFORMATION CONTACT: Mr. Forrest E. Reeves, Assistant Administrator, Office of Corporate Operations, Southwestern Power Administration, U.S. Department of Energy, One West Third Street, Tulsa, Oklahoma 74103, (918) 595-6696, gene.reeves@swpa.gov.

SUPPLEMENTARY INFORMATION: Originally established by Secretarial Order No. 1865 dated August 31, 1943, Southwestern is an agency within the U.S. Department of Energy which was created by an Act of the U.S. Congress, entitled the Department of Energy Organization Act, Pub. L. 95-91, dated August 4, 1977. Guidelines for preparation of power repayment studies are included in DOE Order No. RA 6120.2 entitled Power Marketing Administration Financial Reporting. Procedures for Public Participation in Power and Transmission Rate Adjustments of the Power Marketing Administrations are found at title 10, part 903, subpart A of the Code of Federal Regulations (10 CFR part 903). Procedures for the confirmation and approval of rates for the Federal Power Marketing Administrations are found at title 18, part 300, subpart L of the Code of Federal Regulations (18 CFR part 300).

Southwestern markets power from 24 multi-purpose reservoir projects with hydroelectric power facilities constructed and operated by the U.S. Army Corps of Engineers. These projects are located in the states of Arkansas, Missouri, Oklahoma, and Texas. Southwestern's marketing area includes these States plus Kansas and Louisiana. The costs associated with the hydropower facilities of 22 of the 24 projects are repaid via revenues received under the Integrated System rates, as are those of Southwestern's transmission facilities, which consist of 1,380 miles of high-voltage transmission lines, 24 substations, and 46 microwave and VHF radio sites. Costs associated with the Sam Rayburn and Robert D. Willis Dams, two Corps of Engineers projects that are isolated hydraulically, electrically, and financially from the Integrated System are repaid under separate rate schedules and are not addressed in this notice.

Following Department of Energy guidelines, the Administrator, Southwestern, prepared a Current Power Repayment Study using existing system rates. The Study indicates that Southwestern's legal requirement to repay the investment in power generating and transmission facilities for power and energy marketed by Southwestern will not be met without an increase in revenues. The need for increased revenues is primarily due to increased Operations and Maintenance (O&M) power-related expenses for the U.S. Army's Corps of Engineers and increased investments in the hydroelectric generating facilities. Southwestern's operations and maintenance expenses have also increased from the previous power repayment studies. The Revised Power Repayment Study shows that additional annual revenues of $8,789,829, (a 7.1 percent increase), beginning January 1, 2006, are needed to satisfy repayment criteria.

A Rate Design Study has also been completed which allocates the revenue requirement to the various system rate schedules for recovery, and provides for transmission service rates in general conformance with FERC Order Nos. 888 (A-C). The proposed new rates would increase estimated annual revenues from $124,552,200 to $133,342,029 and would satisfy the present financial criteria for repayment of the project and transmission system investments within the required number of years. As indicated in the Integrated System Rate Design Study, this revenue would be developed primarily through increases in the charges for power sales capacity and energy and transmission services, to include some of the ancillary services for deliveries of both Federal and non-Federal power and associated energy from the transmission system of Southwestern.

A second component of the Integrated System rates for power and energy, the purchased power adder, produces revenues which are segregated to cover the cost of power purchased to meet contractual obligations. The purchased power adder is established to reflect what is expected to be needed by Southwestern to meet purchased power needs on an average annual basis. It has been increased from the existing rate to reflect the projected power costs based on present market rates. The Administrator's authority to adjust the purchased power adder annually at his discretion will remain the same.

Below is a general comparison of the existing and proposed system rates:

| Existing Rates | Proposed Rates
Generation Rates | Rate Schedule P-04 (System Peaking) | Rate Schedule P-05 (System Peaking)
Capacity:
Grid or 138-161kV | $2.73/kW/Mo + $0.08/kW/Mo (ancillary services) for generation within control area: Regulation Ancillary Services +$0.07/kW/Mo for deliveries within control area + Reserve Ancillary Services: up to: $0.0154/kW/Mo for generation in control area | $3.03/kW/Mo + $0.09/kW/Mo (ancillary services) for generation within control area: Regulation Ancillary Services +$0.08/kW/Mo for deliveries within control area + Reserve Ancillary Services: up to: $0.0158/kW/Mo for generation in control area.
| Transformation Service
69 kV | + $0.30/kW/Mo (applied to usage, not reservation) | + $0.30/kW/Mo (applied to usage, not reservation)
| $0.008/kWh of Peaking Energy + | $0.0082/kWh of Peaking Energy +
Energy | $0.0051/kWh of Supplemental Peaking Energy + a Purchased Power Adder of $0.0028 of Peaking Energy (±$0.0011 annually at Administrator's discretion) | $0.0055/kWh of Supplemental Peaking Energy + a Purchased Power Adder of $0.0029 of Peaking Energy (±$0.0011 annually at Administrator's discretion)
Transmission Rates | Rate Schedule NFTS-04 (Transmission) | Rate Schedule NFTS-05 (Transmission)
Capacity (Firm Reservation with energy):
Grid or 138-161 kV | $0.85/kW/Mo $0.2125/kW/Week $0.0386/kW/Day + Required Ancillary Services: $0.08/kW/Mo, or $0.021/kW/Week, or $0.0037/kW/Day + Reserve Ancillary Services: up to: $0.0154/kW/Mo, or $0.0038/kW/Week, or $0.0007/kW/day, for generation in control area + Regulation & Freq. Response Ancillary Service: up to: $0.07/kW/Mo, or $0.018/kW/Week, or $0.0032/kW/Day, for deliveries within control area | $0.90/kW/Mo $0.225/kW/Week $0.0409/kW/Day + Required Ancillary Services: $0.09/kW/Mo, or $0.023/kW/Week, or $0.0041/kW/Day + Reserve Ancillary Services: up to: $0.0158/kW/Mo, or $0.00395/kW/week, or $0.00072/kW/day, for generation in control area + Regulation & Freq. Response Ancillary Service: up to: $0.08/kW/Mo, or $0.020/kW/Week, or $0.0036/kW/Day, for deliveries within control area.
| Transformation Service
69 kV and below | + $0.30/kW/Mo no separate charge (applied on usage, not reservation) Weekly and daily rates not applied | + $0.30/kW/Mo no separate charge (applied on usage, not reservation) Weekly and daily rates not applied.
Capacity (Non-firm with energy) | No separate capacity charge 80% of firm monthly charge divided by 4 for weekly rate, divided by 22 for daily rate, and divided by 352 for hourly rate. | No separate capacity charge 80% of firm monthly charge divided by 4 for weekly rate, divided by 22 for daily rate, and divided by 352 for hourly rate
Network Service | $0.85/kW/Mo of Network Load + Required Ancillary Services: $0.08/kW/Mo, and/or + Reserve Ancillary Services: up to: $0.00154/kW/Mo, for generation in control area + Regulation & Freq. Response Ancillary Service up to: $0.07/kW/Mo, for deliveries within control area | $0.90/kW/Mo of Network Load + Required Ancillary Services: $0.09/kW/Mo, and/or + Reserve Ancillary Services: up to: $0.00158/kW/Mo, for generation in control area + Regulation & Freq. Response Ancillary Service up to: $0.08/kW/Mo, for deliveries within control area.
| Rate Schedule EE-04 (Excess Energy) | Rate Schedule EE-05 (Excess Energy)
Energy | $0.0051/kWh | $0.0055/kWh.

Opportunity is presented for Southwestern's customers and other interested parties to receive copies of the Integrated System Studies. If you desire a copy of the Integrated System Power Repayment Studies and Rate Design Study Data Package, submit your request to Mr. Forrest E. Reeves, Assistant Administrator, Office of Corporate Operations, Southwestern Power Administration, One West Third, Tulsa, OK 74103 (918) 595-6696.

A Public Information Forum is scheduled on August 30, 2005, to explain to the public the proposed rates and supporting studies. The proceeding will be transcribed. A chairman, who will be responsible for orderly procedure, will conduct the Forum. Questions concerning the rates, studies, and information presented at the Forum will be answered, to the extent possible, at the Forum. Questions not answered at the Forum will be answered in writing, except that questions involving voluminous data contained in Southwestern's records may best be answered by consultation and review of pertinent records at Southwestern's offices.

Persons interested in attending the Public Information Forum should indicate in writing (address cited above) by letter, email or facsimile transmission (918-595-6656) by August 22, 2005, their intent to appear at such Forum. If no one so indicates his or her intent to attend, no such Forum will be held.

A Public Comment Forum is scheduled on September 29, 2005, at which interested persons may submit written comments or make oral presentations of their views and comments related to the rate proposal. The proceeding will be transcribed. A chairman, who will be responsible for orderly procedure, will conduct the Forum. Southwestern's representatives will be present, and they and the chairman may ask questions of the speakers. Persons interested in attending the Public Comment Forum should indicate in writing (address cited above) by letter, e-mail or facsimile transmission (918-595-6656) by September 20, 2005, their intent to appear at such Forum. If no one so indicates his or her intent to attend, no such Forum will be held. Persons interested in speaking at the Forum should submit a request to Mr. Forrest E. Reeves, Assistant Administrator, Southwestern, at least seven (7) calendar days prior to the Forum so that a list of speakers can be developed. The chairman may allow others to speak if time permits.

A transcript of each Forum will be made. Copies of the transcripts may be obtained, for a fee, from the transcribing service. Copies of all documents introduced will also be available from the transcribing service upon request for a fee. Ten copies of all written comments, together with a diskette or compact disk in MS Word, on the proposed Integrated System Rates are due on or before November 14, 2005. Comments should be submitted to Forrest E. Reeves, Assistant Administrator, Southwestern, at the above-mentioned address for Southwestern's offices.

Following review of the oral and written comments and the information gathered in the course of the proceedings, the Administrator will submit the finalized Integrated System Rate Proposal, Power Repayment Studies, and Rate Design Study in support of the proposed rates to the Deputy Secretary of Energy for confirmation and approval on an interim basis, and subsequently to the Federal Energy Regulatory Commission (Commission) for confirmation and approval on a final basis. The Commission will allow the public an opportunity to provide written comments on the proposed rate increase before making a final decision.

Dated: August 5, 2005.
Michael A. Deihl,
Administrator.

[FR Doc. 05-16190 Filed 8-15-05; 8:45 am]

BILLING CODE 6450-01-P